DEPARTMENT OF HEALTH AND HUMAN SERVICES

Office of the Assistant Secretary for Planning and Evaluation; Meeting of the Advisory Council on Alzheimer's Research, Care, and Services

AGENCY: Assistant Secretary for Planning and Evaluation, HHS.

ACTION: Notice of meeting.

SUMMARY: This notice announces public meetings of the Advisory Council on Alzheimer's Research, Care, and Services (Advisory Council). Notice of these meetings is given under the Federal Advisory Committee Act (5 U.S.C. App. 2, section 10(a)(1) and (a)(2)). The Advisory Council on Alzheimer's Research, Care, and Services will provide advice on how to prevent or reduce the burden of Alzheimer's disease and related dementias on people with the disease and their caregivers. Representatives from the Department of Health and Human Services (HHS) will present inventories of Federal activities related to Alzheimer's disease and related dementias in three areas: research, clinical care, and long-term services and support. The representatives will also identify gaps and opportunities in these areas. The Advisory Council will discuss the inventories, gaps, and opportunities, and make recommendations to the Secretary for priority areas and actions for a national plan to address Alzheimer's disease and related dementias.

Meeting Date: September 27, 2011, 9:30 a.m. to 4 p.m.

ADDRESSES: The meeting will be held at Administration on Aging headquarters at 1 Massachusetts Ave., NW., Washington, DC, 20001, Room 5604/5403.

Comments: Time is allocated on the agenda to hear public comments at the end of the meeting. In lieu of oral comments, formal written comments may be submitted for the record to Helen Lamont, OASPE, 200 Independence Ave., SW., Washington, DC 20201, Room 424E. Those submitting written comments should identify themselves and any relevant organizational affiliations.

FOR FURTHER INFORMATION CONTACT: Helen Lamont (202) 690-7996, helen.lamont@hhs.gov Note: Although the meeting is open to the public, procedures governing security and the entrance to Federal buildings may change without notice. Those wishing to attend the meeting must call or e-mail Dr. Lamont by Thursday September 22, 2011, so that their name may be put on a list of expected attendees and forwarded to the security officers at the Administration on Aging. Space is limited to 40 participants.

SUPPLEMENTARY INFORMATION: Topics of the Meeting: The Advisory Council will hear presentations and provide feedback on inventories of Federal activities to address Alzheimer's disease and related dementias, gaps that can be addressed, and opportunities for collaboration. The Advisory Council is specifically charged with discussing and making recommendations to the Secretary on priorities for a national plan to address Alzheimer's disease and related dementias.

Procedure and Agenda: This meeting is open to the public. Representatives of HHS will present the inventories of Federal activities related to Alzheimer's disease and related dementias to the Advisory Council. The representatives will also identify gaps and opportunities in these areas. After each presentation, the Advisory Council will openly discuss the inventory and the findings. Interested persons may observe the discussion, but the Advisory Council will not hear public comments during this time. The Advisory Council will allow an open public session for any attendee to address issues specific to the inventories or topics that should be addressed by a national plan.

Authority: 42 U.S.C. 11225; Section 2(e)(3) of the National Alzheimer's Project Act. The panel is governed by provisions of Public Law 92-463, as amended (5 U.S.C. Appendix 2), which sets forth standards for the formation and use of advisory committees.

Dated: September 8, 2011.
Sherry Glied,
Assistant Secretary for Planning and Evaluation.

[FR Doc. 2011-23465 Filed 9-9-11; 11:15 am]

BILLING CODE 4150-05-P